DEPARTMENT OF STATE

[Public Notice 12040]

Overseas Schools Advisory Council Charter Renewal

ACTION: Notice of renewal of an advisory committee charter.

SUMMARY: The Secretary of State announces the renewal of the charter of the Overseas Schools Advisory Council in accordance with the Federal Advisory Committee Act. The main objectives of the Council are:

a. To advise the Department of State regarding matters of policy and funding for the overseas schools.

b. To provide advice to the Department on ways to ensure that overseas schools become showcases for excellence in education.

c. To provide advice to the Department on ways to make service abroad more attractive to American citizens who have school-age children, both in the business community and in Government.

d. To recommend ways to mitigate risks to American private sector interests worldwide.

FOR FURTHER INFORMATION CONTACT: Mark E. Ulfers, Director of the Office of Overseas Schools and Executive Secretary for the Committee, at (202) 261-8200 or OverseasSchools@state.gov.

Joyce L. Picado,
Administrative Officer, Office of Overseas Schools, Bureau of Administration, Department of State.

[FR Doc. 2023-07418 Filed 4-7-23; 8:45 am]

BILLING CODE 4710-24-P